SMALL BUSINESS ADMINISTRATION

[Declaration of Disaster #P047; Amendment #3]

State of Kansas

In accordance with a notice received from the Department of Homeland Security—Federal Emergency Management Agency, effective August 18, 2004, the above numbered Public Assistance declaration is hereby amended to include Rooks and Woodson Counties in the State of Kansas as disaster areas due to damages caused by severe storms, flooding and tornadoes occurring on June 12, 2004, and continuing through July 25, 2004.

All other information remains the same, i.e., the deadline for filing applications for physical damage is October 4, 2004.

(Catalog of Federal Domestic Assistance Program Nos. 59008.)
Dated: August 30, 2004.
Herbert L. Mitchell,
Associate Administrator for Disaster Assistance.

[FR Doc. 04-20303 Filed 9-7-04; 8:45 am]

BILLING CODE 8025-01-P